NUCLEAR REGULATORY COMMISSION

[NRC-2016-0068]

Integrated Action Plan To Modernize Digital Instrumentation and Controls Regulatory Infrastructure

AGENCY: Nuclear Regulatory Commission.

ACTION: Preliminary draft action plan; request for comment.

SUMMARY: The U.S. Nuclear Regulatory Commission (NRC) is issuing for public comment its preliminary draft action plan, “Integrated Action Plan to Modernize Digital Instrumentation and Controls Regulatory Infrastructure.” This preliminary draft action plan outlines the strategy and implementation milestones the NRC staff has identified in order to modernize the NRC's digital instrumentation and controls (I&C) regulatory infrastructure.

DATES: Submit comments by April 24, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2016-0068. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Todd Keene, Office of Nuclear Reactor Regulation, U.S. Nuclear Regulatory Commission, Washington, DC 20555-0001; telephone: 301-415-1994; email: Todd.Keene@nrc.gov.

SUPPLEMENTARY INFORMATION:

I. Obtaining Information and Submitting Comments

A. Obtaining Information

Please refer to Docket ID NRC-2016-0068 when contacting the NRC about the availability of information for this action. You may obtain publicly-available information related to this action by any of the following methods:

• Federal Rulemaking Web site: Go to http://www.regulations.gov and search for Docket ID NRC-2016-0068.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The preliminary draft action plan is available in ADAMS under Accession No. ML16075A466.

• NRC's PDR: You may examine and purchase copies of public documents at the NRC's PDR, Room O1-F21, One White Flint North, 11555 Rockville Pike, Rockville, Maryland 20852.

B. Submitting Comments

Please include Docket ID NRC-2016-0068 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC is requesting public comments on a preliminary draft action plan in an effort to gain an understanding of stakeholder perspectives of the digital I&C regulatory challenges, priorities and potential solutions. The development of this action plan was directed by the Commission in SRM-15-0106 (February 25, 2016) (ADAMS Accession No. ML16056A614). In order to reach the widest audience, the action plan will be provided via email and posted on the NRC public Web site, as well as published in the Federal Register. Additionally, a public meeting on the preliminary draft action plan will be held on March 30, 2016, at NRC Headquarters. Additional information concerning the public meeting can be found on NRC's Public Meeting Schedule Web page; http://meetings.nrc.gov/pmns/mtg.

The NRC staff has developed the preliminary draft action plan to provide a strategy to modernize the digital I&C regulatory infrastructure in order to improve the predictability and consistency of the process for licensing and oversight of industry stakeholders. Improvements and modernization of the NRC's digital I&C regulatory processes will improve efficiency of the oversight of licensee implementation of digital I&C equipment.

This preliminary draft action plan has not been subject to all levels of NRC management review. Accordingly, it may be incomplete or in error in one or more respects and may be subject to further revision before the staff presents an action plan regarding an integrated strategy to modernize the NRC's digital instrumentation and controls regulatory infrastructure to the Commission in a SECY paper (currently scheduled to be provided to the Commission in May 2016).

Because of the schedule for development of the plan, the NRC will not issue a comment response document providing formal written responses to comments which are received.

Dated at Rockville, Maryland, this 24th day of March, 2016.
For the Nuclear Regulatory Commission.
Sheldon D. Stuchell,
Chief, Generic Communications Branch, Division of Policy and Rulemaking, Office of Nuclear Reactor Regulation.

[FR Doc. 2016-07112 Filed 3-29-16; 8:45 am]

BILLING CODE 7590-01-P